DEPARTMENT OF DEFENSE

Department of the Army

Availability for Non-Exclusive, Exclusive, or Partially Exclusive Licensing of U.S. Patent Application Concerning Asporogenic B. ANTHRACIS Expression System

AGENCY: Department of the Army, DOD.

ACTION: Notice.

SUMMARY: In accordance with 37 CFR 404.6 and 404.7, announcement is made of the availability for licensing of U.S. Patent No. 6,316,006 entitled “Asporogenic B. ANTHRACIS Expression System” issued November 13, 2001. The United States Government as represented by the Secretary of the Army has rights in this invention.

ADDRESSES: Commander, U.S. Army Medical Research and Materiel Command, ATTN: Command Judge Advocate, MCMR-JA, 504 Scott Street, Fort Detrick, Frederick, MD 21705-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates to a bacterial expression system for production of protective antigen (PA) against bacillus anthrasis. Recombinant asporogenic B. anthracits that are derived from ΔSterne-1(pPA102) and show inability to bind the dye when grown on Congo Red Agar can be screened and asporogenic strains isolated using methods of the invention. Organisms of the invention lacking spore-forming function may be killed by heat shock at temperatures as low as 60 °C. for 60 minutes. Hence, contamination of the environment with viable spore-forming organisms is easily avoided and decontamination is easily accomplished.

Luz D. Ortiz,
Army Federal Register Liaison Officer.

[FR Doc. 02-11067 Filed 5-2-02; 8:45 am]

BILLING CODE 3710-08-M